DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: North Pacific Groundfish Observer Program Vessel/Plant Operator Comment Form.

Form Number(s): None.

OMB Approval Number: None.

Type of Request: Regular submission.

Burden Hours: 500.

Number of Respondents: 400.

Average Hours Per Response: Comment form, 30 minutes; non-response follow-up form, 10 minutes.

Needs and Uses: The Comment Form will help the North Pacific Groundfish Observer Program (NPGOP) assess observer performance, ensure higher data quality, and provide the vessel/plant operators with a direct line of communication to the program management. Improved communication and outreach is a priority for the NPGOP. It is important to get the fishermen's opinions about the program and have a method for them to report their concerns and evaluations of the program. This is a tailored qualitative survey for Vessel/Plant Operators who have had observers on their vessels to provide direct feedback on observer and observer program performance to the National Marine Fisheries Service. This will be collected on a voluntary basis. The Vessel/Plant Operator Comment Form is available to all operators who have had a certified North Pacific Groundfish observer onboard their vessel or plant. Vessel operators or plant operators are the only ones who may complete the survey.

Affected Public: Business or other for-profit organizations.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 26, 2006.
Gwellnar Banks,
Management Analyst, Office of the Chief Information Officer.

[FR Doc. E6-12211 Filed 7-28-06; 8:45 am]

BILLING CODE 3510-22-P